DEPARTMENT OF JUSTICE

Notice of Lodging of Proposed Consent Decree Under the Comprehensive Environmental Response, Compensation, and Liability Act

On January 9, 2020, the Department of Justice lodged a proposed consent decree with the United States District Court for the District of New Hampshire in the lawsuit entitled United States v. Charles A. DiDonato, Civil Action No. 1:20-cv-58-JD. In the filed complaint, the United States, on behalf of the U.S. Environmental Protection Agency (“EPA”), alleges that Charles A. DiDonato is liable under Section 107 of the Comprehensive Environmental Response, Compensation, and Liability Act, 42 U.S.C. 9607, for past response costs EPA incurred to respond to releases and threatened releases of hazardous substances into the environment at or from the New Hampshire Dioxane Site located in Atkinson and Hampstead, New Hampshire. The proposed consent decree requires Mr. DiDonato to pay $1,700,000, with interest, to EPA, in settlement of the United States' claim for past response costs against Mr. DiDonato.

The publication of this notice opens a period for public comment on the consent decree. Comments should be addressed to the Assistant Attorney General, Environment and Natural Resources Division, and should refer to United States v. Charles A. DiDonato, D.J. Ref. No. 90-11-3-11469/1. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $4.00 (25 cents per page reproduction cost), payable to the United States Treasury.

Henry S. Friedman,
Assistant Section Chief, Environmental Enforcement Section, Environment & Natural Resources Division.

[FR Doc. 2020-00522 Filed 1-14-20; 8:45 am]

BILLING CODE 4410-15-P